DEPARTMENT OF JUSTICE

Drug Enforcement Administration

Jay D. Angeluzzi, M.D.; Revocation of Registration

On August 23, 2004, the Deputy Assistant Administrator, Office of Diversion Control, Drug Enforcement Administration (DEA), issued an Order to Show Cause to Jay D. Angeluzzi, M.D. (Dr. Angeluzzi) who was notified of an opportunity to show cause as to why DEA should not revoke his DEA Certificate of Registration AA2504151, pursuant to 21 U.S.C. 824(a)(3) and deny any pending applications under 21 U.S.C. 823(f), on the ground that he lacked state authority to handle controlled substances in the State of Connecticut. The Order to Show Cause also notified Dr. Angeluzzi that should no request for a hearing be filed within 30 days, his hearing right would be deemed waived.

The Order to Show Cause was sent by certified mail to Dr. Angeluzzi at his registered address of 9 Mott Avenue, Suite 106, Norwalk, Connecticut 06850. According to the return receipt of the Order, it was accepted on Dr. Angeluzzi's behalf on August 30, 2004. DEA has not received a request for hearing or any other reply from Dr. Angeluzzi or anyone purporting to represent him in this matter.

Therefore, the Deputy Administrator of DEA, finding that (1) thirty days having passed since the delivery of the Order to Show Cause to the registrant's address of record and (2) no request for hearing having been received, concludes that Dr. Angeluzzi is deemed to have waived his hearing right. See David W. Linder, 67 FR 12579 (2002). After considering material from the investigative file in this matter, the Deputy Administrator now enters her final order without a hearing pursuant to 21 CFR 1301.43(d) and (e) and 1301.46.

The Deputy Administrator finds that Dr. Angeluzzi is currently registered with DEA as a practitioner authorized to handle controlled substances in Schedules II through V under Certificate of Registration AA2504151, expiring on June 30, 2006. According to information in the investigative file, on February 6, 2004, the Connecticut Department of Public Health, Department of Healthcare Systems (Connecticut Department), filed a Statement of Charges and Motion for Summary Suspension against Dr. Angeluzzi.

The Statement of Charges alleged that Dr. Angeluzzi, an anesthesiologist, suffers from a psychiatric or neurological illness that disables him from practicing medicine and that on July 8, 2003, he failed to meet the applicable standard of care during a caesarian section delivery of a baby. As a consequence of Dr. Angeluzzi's errors, the patient is in a permanent vegetative state. The day after this incident, Dr. Angeluzzi informed his medical partners that he had become completely disabled from the practice of medicine by reason of psychiatric and/or substance abuse conditions. On April 16, 2004, in settlement of the allegations, the Connecticut Department accepted a voluntary surrender of Dr. Angeluzzi's state medicine license. In his accompanying affidavit, Dr. Angeluzzi agreed that if he were to seek reinstatement of his license or applied for a new license, the allegations in the Statement of Charges woud be deemed to be true.

There is no evidence before the Deputy Administrator to rebut a finding that Dr. Angeluzzi's Connecticut medical license has been surrendered. Therefore, the Deputy Administrator finds that Dr. Angeluzzi is currently not authorized to practice medicine in the State of Connecticut. As a result, it is reasonable to infer that he is also without authorization to handle controlled substances in that state.

DEA does not have statutory authority under the Controlled Substances Act to issue or maintain a registration if the applicant or registrant is without state authority to handle controlled substances in the state in which he conducts business. See 21 U.S.C. 802(21), 823(f) and 824(a)(3). This prerequisite has been consistently upheld. See Richard J. Clement, M.D., 68 FR 12,103 (2003); Dominick A. Ricci, M.D., 58 FR 51,104 (1993); Bobby Watts, M.D., 53 FR 11,919 (1988).

Here, it is clear that Dr. Angeluzzi's state medical license was surrendered after disciplinary proceedings were initiated against him and there is no information before the Deputy Administrator indicating that his license has been reinstated or a new license issued. As a result, Dr. Angeluzzi is not authorized to practice medicine or handle controlled substances in Connecticut, where he is registered with DEA. Therefore, he is not entitled to maintain that registration.

Accordingly, the Deputy Administrator of the Drug Enforcement Administration, pursuant to the authority vested in her by 21 U.S.C. 823 and 824 and 28 CFR 0.100(b) and 0.104, hereby orders that DEA Certificate of Registration, AA2504151, issued to Jay D. Angeluzzi, M.D., be, and it hereby is, revoked. The Deputy Administrator further orders that any pending applications for renewal or modification of the aforementioned registration be, and hereby are, denied. This order is effective June 9, 2005.

Dated: May 2, 2005.
Michele M. Leonhart,
Deputy Administrator.

[FR Doc. 05-9247 Filed 5-9-05; 8:45 am]

BILLING CODE 4410-09M